DEPARTMENT OF HOMELAND SECURITY

U.S. Citizenship and Immigration Services

[CIS No. 2613-17; DHS Docket No. USCIS-2014-0006]

RIN 1615-ZB69

Termination of the Designation of Nicaragua for Temporary Protected Status

AGENCY: U.S. Citizenship and Immigration Services, Department of Homeland Security.

ACTION: Notice.

SUMMARY: The designation of Nicaragua for Temporary Protected Status (TPS) is set to expire on January 5, 2018. After reviewing country conditions and consulting with the appropriate U.S. Government agencies, the Secretary of Homeland Security (Secretary) has determined that conditions in Nicaragua no longer support its designation for TPS and is therefore terminating the TPS designation of Nicaragua. To provide for an orderly transition, this termination is effective on January 5, 2019, which is 12 months following the end of the current designation.

Nationals of Nicaragua (and aliens having no nationality who last habitually resided in Nicaragua) who have been granted TPS and wish to maintain their TPS and receive TPS-based Employment Authorization Documents (EAD) valid through January 5, 2019, must re-register for TPS in accordance with the procedures set forth in this Notice. On January 6, 2019, nationals of Nicaragua (and aliens having no nationality who last habitually resided in Nicaragua) who have been granted TPS under the Nicaragua designation will no longer have TPS.

DATES: The designation of Nicaragua for TPS is terminated effective at 11:59 p.m., local time, on January 5, 2019. The 60-day re-registration period runs from December 15, 2017 through February 13, 2018. (Note: It is important for re-registrants to timely re-register during this 60-day period and not to wait until their EADs expire.)

FOR FURTHER INFORMATION CONTACT:

• You may contact Alexander King, Branch Chief, Waivers and Temporary Services Branch, Service Center Operations Directorate, U.S. Citizenship and Immigration Services, Department of Homeland Security, 20 Massachusetts Avenue NW, Washington, DC 20529-2060; or by phone at (202) 272-8377 (this is not a toll-free number). Note: The phone number provided here is solely for questions regarding this TPS Notice. It is not for individual case status inquiries.

• For further information on TPS, including guidance on the re-registration process and additional information on eligibility, please visit the USCIS TPS web page at http://www.uscis.gov/tps. You can find specific information about this termination of Nicaragua's TPS by selecting “Nicaragua” from the menu on the left side of the TPS web page.

• Applicants seeking information about the status of their individual cases can check Case Status Online, available on the USCIS website at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

CFR—Code of Federal Regulations

DHS—Department of Homeland Security

DOS—Department of State

EAD—Employment Authorization Document

FNC—Final Nonconfirmation

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this Notice, DHS sets forth procedures necessary for eligible nationals of Nicaragua (or aliens having no nationality who last habitually resided in Nicaragua) to re-register for TPS and to apply for renewal of their EADs with USCIS. Re-registration is limited to persons who have previously registered for TPS under the designation of Nicaragua and whose applications have been granted.

For individuals who have already been granted TPS under Nicaragua's designation, the 60-day re-registration period runs from December 15, 2017 through February 13, 2018. USCIS will issue new EADs with a January 5, 2019 expiration date to eligible Nicaraguan TPS beneficiaries who timely re-register and apply for EADs. Given the timeframes involved with processing TPS re-registration applications, DHS recognizes that not all re-registrants will receive new EADs before their current EADs expire on January 5, 2018. Accordingly, through this Notice, DHS automatically extends the validity of EADs issued under the TPS designation of Nicaragua for 60 days, through March 6, 2018. Additionally, provided a Nicaraguan TPS beneficiary timely re-registers and properly files an application for an EAD in accordance with this Notice, the validity of his or her EAD will be automatically extended by regulation for up to 180 days from the date the current EAD expires, i.e., through July 4, 2018. See 8 CFR 274a.13(d)(1). This Notice explains how TPS beneficiaries and their employers may determine which EADs are automatically extended and how this affects the Form I-9, Employment Eligibility Verification, and E-Verify processes.

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States, may not be removed, and are authorized to work and obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(2), 8 U.S.C. 1254a(c)(2).

• When the Secretary terminates a country's TPS designation, beneficiaries return to one of the following:

○ The same immigration status or category that they maintained before TPS, if any (unless that status or category has since expired or been terminated); or

○ Any other lawfully obtained immigration status or category they received while registered for TPS, as long as it is still valid on the date TPS terminates.

When was Nicaragua designated for TPS?

Nicaragua was initially designated for TPS on January 5, 1999, based on environmental disaster grounds, specifically the devastation caused by Hurricane Mitch. See Designation of Nicaragua Under Temporary Protected Status, 64 FR 526 (Jan. 5, 1999). The last extension of Nicaragua's designation for TPS was announced on May 16, 2016, based on the determination that the conditions warranting the designation continued to be met. See Extension of the Designation of Nicaragua for Temporary Protected Status, 81 FR 30325 (May 16, 2016).

What authority does the Secretary have to terminate the designation of Nicaragua for TPS?

Section 244(b)(1) of the INA, 8 U.S.C. 1254a(b)(1), authorizes the Secretary, after consultation with appropriate U.S. Government agencies, to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to the Department of Homeland Security (DHS) “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation must be extended for an additional period of 6 months and, in the Secretary's discretion, may be extended for 12 or 18 months. See INA section 244(b)(3)(C), 8 U.S.C. 1254a(b)(3)(C). If the Secretary determines that the foreign state no longer meets the conditions for TPS designation, the Secretary must terminate the designation, but such termination may not take effect earlier than 60 days after the date the Federal Register notice of termination is published, or if later, the expiration of the most recent previous extension of the country designation. See INA section 244(b)(3)(B), 8 U.S.C. 1254a(b)(3)(B). The Secretary may determine the appropriate effective date of the termination and the expiration of any TPS-related documentation, such as EADs, for the purpose of providing an orderly transition. See id.; INA section 244(d)(3), 8 U.S.C. 1254a(d)(3).

Why is the Secretary terminating the TPS designation for Nicaragua as of January 5, 2019?

DHS has reviewed conditions in Nicaragua. Based on the review, including input received from other relevant U.S. Government agencies, the Secretary has determined that conditions for Nicaragua's 1999 designation for TPS on the basis of environmental disaster due to the damage caused by Hurricane Mitch are no longer met. It is no longer the case that Nicaragua is unable, temporarily, to handle adequately the return of nationals of Nicaragua. Recovery efforts relating to Hurricane Mitch have largely been completed. The social and economic conditions affected by Hurricane Mitch have stabilized, and people are able to conduct their daily activities without impediments directly related to damage from the storm.

Nicaragua received a significant amount of international aid to assist in its Hurricane Mitch-related recovery efforts, and many reconstruction projects have now been completed. Hundreds of homes destroyed by the storm have been rebuilt. The government of Nicaragua has been working to improve access to remote communities and has built new roads in many of the areas affected by Hurricane Mitch, including the first paved road to connect the Pacific side of the country to the Caribbean Coast, which is nearly completed. Access to drinking water and sanitation has improved. Electrification of the country has increased from 50% of the country in 2007 to 90% today. Nearly 1.5 million textbooks have been provided to 225,000 primary students of the poorest regions of the country. Internet access is also now widely available.

In addition, Nicaragua's relative security has helped attract tourism and foreign investment. The Nicaraguan economy has strengthened due to increased foreign direct investment and exports of textiles and commodities. Nicaragua's Gross Domestic Product (GDP) reached an all-time high of $13.23 billion (USD) in 2016, has averaged over 5% growth since 2010, and Nicaragua's GDP per capita is higher today than in 1998. Public infrastructure investment has been a high priority for the government, and the government has demonstrated its ability to provide basic services to its citizens. The U.S. Department of State does not have a current travel warning for Nicaragua. DHS estimates that there are approximately 5,300 nationals of Nicaragua (and aliens having no nationality who last habitually resided in Nicaragua) who hold TPS under Nicaragua's designation.

Notice of Termination of the TPS Designation of Nicaragua

By the authority vested in me under INA section 244, 8 U.S.C. 1254a, I have determined, after consultation with the appropriate U.S. Government agencies, that Nicaragua no longer meets the conditions for designation of TPS under section 244(b)(1) of the INA, 8 U.S.C. 1254a(b)(1). Accordingly, I order as follows:

(1) Pursuant to INA section 244(b)(3)(B), to provide for an orderly transition, the designation of Nicaragua for TPS is terminated at 11:59 p.m., local time, on January 5, 2019, 12 months following the end of the current designation.

(2) Information concerning the termination of TPS for nationals of Nicaragua (and aliens having no nationality who last habitually resided in Nicaragua) will be available at local USCIS offices upon publication of this Notice and through the USCIS National Customer Service Center at 1-800-375-5283. This information will be published on the USCIS website at www.uscis.gov.

Elaine C. Duke,
Acting Secretary.

Required Application Forms and Application Fees To Re-Register for TPS

To re-register for TPS based on the designation of Nicaragua, you must submit an Application for Temporary Protected Status (Form I-821). You do not need to pay the filing fee for the Form I-821. See 8 CFR 244.17. You may be required to pay the biometric services fee. Please see additional information under the “Biometric Services Fee” section of this Notice.

Through operation of this Notice, your existing EAD issued under the TPS designation of Nicaragua with the expiration date of January 5, 2018, is automatically extended for 60 days, through March 6, 2018. You do not need to apply for a new EAD in order to benefit from this 60-day automatic extension. However, if you want to obtain a new EAD valid through January 5, 2019, you must also file an Application for Employment Authorization (Form I-765) and pay the Form I-765 fee. Note, if you do not want a new EAD, you do not have to file Form I-765 or pay the Form I-765 fee. If you do not want to request a new EAD now, you may also file Form I-765 at a later date to request a new EAD and pay the fee (or request a fee waiver), provided that you still have TPS or a pending TPS application.

In addition to the automatic 60-day EAD extension provided through this notice, if you timely re-register for TPS and properly file an application for an EAD in accordance with this Notice, the validity of your EAD will be automatically extended by regulation for up to 180 days from the date the current EAD expires, i.e., through July 4, 2018. See 8 CFR 274a.13(d)(1). But unless you timely re-register for TPS and properly file an EAD application in accordance with this Notice, the validity of your current EAD will end on March 6, 2018. You may file the application for your EAD either prior to or after it has expired and your EAD will be automatically extended for up to 180 days (i.e., through July 4, 2018). See 8 CFR 274a.13(d)., You are strongly encouraged to properly file your EAD application as early as possible to avoid gaps in your employment authorization documentation and to ensure that you receive your Form I-797C Notice of Action prior to March 6, 2018. However, you may file your EAD application even if your current TPS-related EAD has expired.

If you are seeking an EAD with your re-registration for TPS, please submit both the Form I-821 and Form I-765 together. If you are unable to pay the application fee and/or biometrics fee, you may complete a Request for Fee Waiver (Form I-912) or submit a personal letter requesting a fee waiver with satisfactory supporting documentation. For more information on the application forms and fees for TPS, please visit the USCIS TPS web page at http://www.uscis.gov/tps. Fees for the Form I-821, the Form I-765, and biometric services are also described in 8 CFR 103.7(b)(1)(i).

Biometric Services Fee

Biometrics (such as fingerprints) are required for all applicants 14 years and older. Those applicants must submit a biometric services fee. As previously stated, if you are unable to pay for the biometric services fee, you may complete a Form I-912 or submit a personal letter requesting a fee waiver with satisfactory supporting documentation. For more information on the biometric services fee, please visit the USCIS website at http://www.uscis.gov. If necessary, you may be required to visit an Application Support Center to have your biometrics captured. For additional information on the USCIS biometrics screening process please see the USCIS Customer Profile Management Service Privacy Impact Assessment, available at www.dhs.gov/privacy.

Re-Filing a Re-Registration TPS Application After Receiving a Denial of a Fee Waiver Request

You should file as soon as possible within the 60-day re-registration period so USCIS can process your application and issue any EAD promptly. Properly filing early will also allow you to have time to re-file your application before the deadline and, if you also file Form I-765, receive a Form I-797C demonstrating your EAD's 180-day automatic extension, should USCIS deny your fee waiver request. If, however, you receive a denial of your fee waiver request and are unable to re-file by the re-registration deadline, you may still re-file your Form I-821 with the biometrics fee. This situation will be reviewed to determine whether you established good cause for late TPS re-registration. However, you are urged to re-file within 45 days of the date on any USCIS fee waiver denial notice, if possible. See INA section 244(c)(3)(C); 8 U.S.C. 1254a(c)(3)(C); 8 CFR 244.17(b). For more information on good cause for late re-registration, visit the USCIS TPS web page at http://www.uscis.gov/tps. Following denial of your fee waiver request, you may also re-file your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and could wait to seek an EAD until after USCIS has approved your TPS re-registration. If you choose to do this, to re-register for TPS you would only need to file the Form I-821 with the biometrics services fee, if applicable, (or request a fee waiver).

Mailing Information

Mail your application for TPS to the proper address in Table 1.

Table 1—Mailing Addresses
If . . . | Mail to . . .
You are applying through the U.S. Postal Service | USCIS, Attn: TPS Nicaragua, P.O. Box 4413, Chicago, IL 60680.
For FedEx, UPS, and DHL deliveries | USCIS, Attn: TPS Nicaragua, 131 S. Dearborn Street, 3rd Floor, Chicago, IL 60603-5517.

If you were granted TPS by an immigration judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Nicaragua.”

Employment Authorization Document (EAD)

How can I obtain information on the status of my EAD request?

To get case status information about your TPS application, including the status of an EAD request, you can check Case Status Online at http://www.uscis.gov, or call the USCIS National Customer Service Center at 800-375-5283 (TTY 800-767-1833). If your Form I-765 has been pending for more than 90 days, and you still need assistance, you may request an EAD inquiry appointment with USCIS by using the InfoPass system at https://infopass.uscis.gov. However, we strongly encourage you first to check Case Status Online or call the USCIS National Customer Service Center for assistance before making an InfoPass appointment.

Am I eligible to receive an automatic 60-day extension of my current EAD through March 6, 2018?

Yes. Provided that you currently have TPS under the designation of Nicaragua, this Notice automatically extends your EAD by 60 days if you:

• Are a national of Nicaragua (or an alien having no nationality who last habitually resided in Nicaragua); and

• Have an EAD under the designation of TPS for Nicaragua with a marked expiration date of January 5, 2018, bearing the notation A-12 or C-19 on the face of the card under Category.

Although this Notice automatically extends your EAD through March 6, 2018, you must re-register timely for TPS in accordance with the procedures described in this Notice if you would like to maintain your TPS.

Am I eligible to receive an extension of my current EAD beyond March 6, 2018, while I wait for my new one to arrive?

Provided that you currently have a Nicaragua TPS-based EAD, you may be eligible to have the validity of your current EAD extended for up to 180 days from its current expiration date (through July 4, 2018) if you:

• Are a national of Nicaragua (or an alien having no nationality who last habitually resided in Nicaragua);

• Have an EAD under the designation of Nicaragua for TPS;

• Have an EAD with a marked expiration date of January 5, 2018, bearing the notation “A-12” or “C-19” on the face of the card under “Category”; and

• Properly filed an application for an EAD in accordance with this Notice.

You must timely re-register for TPS as described in this Notice if you would like to maintain your TPS. This Federal Register Notice automatically extends your EAD with an expiration date of January 5, 2018, for 60 days until March 6, 2018. If you would like to have the validity of your current EAD automatically extended for up to 180 days from January 5, 2018, you must properly file Form I-765 for a new EAD when you file to re-register for TPS or at any other time before July 4, 2018, if you file Form I-765 after you re-register for TPS. In either case, your current EAD will be auto-extended through July 4, 2018. You are strongly encouraged to file your EAD renewal application as early as possible to avoid gaps in documentation of your employment authorization.

When hired, what documentation may I show to my employer as evidence of employment authorization and identity when completing Employment Eligibility Verification (Form I-9)?

You can find a list of acceptable document choices on the “Lists of Acceptable Documents” for Form I-9. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which is evidence of employment authorization), or you may present an acceptable receipt for List A, List B, or List C documents as described in the Form I-9 Instructions. Employers may not reject a document based on a future expiration date. You can find additional detailed information about Form I-9 on USCIS's I-9 Central web page at https://www.uscis.gov/i-9-central.

An EAD is an acceptable document under List A. If your EAD has an expiration date of January 5, 2018, and states “A-12” or “C-19” under “Category,” it has been extended automatically for 60 days by virtue of this Notice, and you may choose to present your EAD to your employer as proof of identity and employment authorization for Form I-9 through March 6, 2018, unless your TPS has been withdrawn or your request for TPS has been denied. If you properly filed an EAD renewal application in accordance with this Notice, you will receive a Form I-797C Notice of Action (showing the qualifying eligibility category of either A-12 or C-19). You may choose to present your EAD to your employer together with the Form I-797C as a List A document that provides evidence of your identity and employment authorization for Form I-9 through July 4, 2018, unless your TPS has been finally withdrawn or your request for TPS has been finally denied. See the subsection titled, “How do my employer and I complete the Employment Eligibility Verification (Form I-9) using an automatically extended EAD for a new job?” for further information.

To reduce confusion over this extension at the time of hire, you should explain to your employer that the validity of your EAD has been automatically extended by this Notice through March 6, 2018. If you have a Form I-797C, you should explain to your employer that your EAD has been automatically extended through July 4, 2018. You may also provide your employer with a copy of this Notice, which explains how your EAD is automatically extended. As an alternative to presenting evidence of your automatically extended EAD, you may choose to present any other acceptable document from List A, a combination of one selection from List B and one selection from List C, or a valid receipt.

What documentation may I present to my employer for Employment Eligibility Verification (Form I-9) if I am already employed but my current TPS-related EAD is set to expire?

Even though EADs with an expiration date of January 5, 2018 that state “A-12” or “C-19” under “Category” have been automatically extended for 60 days by this Federal Register notice, you are also eligible to have your EAD automatically extended for 180 days if you properly file for a new EAD in accordance with this Notice. Your employer will need to ask you about your continued employment authorization no later than before you start work on January 6, 2018. You will need to present your employer with evidence that you are still authorized to work. Once presented, you may correct your employment authorization expiration date in Section 1 and your employer should correct the EAD expiration date in Section 2 of Form I-9. See the subsection titled, “What corrections should my current employer and I make to Employment Eligibility Verification (Form I-9) if my EAD has been automatically extended?” for further information. You may also show this Notice to your employer to explain what to do for Form I-9.

Your employer may need to reinspect your automatically extended EAD to check the expiration date and Category code to record the updated expiration date on your Form I-9 if your employer did not keep a copy of this EAD when you initially presented it. In addition, if you properly file your Form I-765 to renew your current EAD in accordance with this Notice, you may present Form I-797C to your employer along with your EAD to confirm the validity of your EAD has been automatically extended through July 4, 2018, unless your TPS has been finally withdrawn or your request for TPS has been finally denied. You may also show this Federal Register notice to your employer to reduce confusion. To avoid delays in receiving the Form I-797C and reduce the possibility of gaps in your employment authorization documentation, you should file your EAD renewal application as early as possible during the re-registration period.

The last day of the automatic EAD extension by this Federal Register notice is March 6, 2018. After this date, if you properly filed for a new EAD, you may demonstrate continued employment eligibility by providing your Form I-797C which will indicate that the last day of the automatic 180-day EAD extension is July 4, 2018. Before you start work on July 5, 2018, your employer must reverify your employment authorization. At that time, you must present any document from List A or any document from List C on Form I-9 Lists of Acceptable Documents, or an acceptable List A or List C receipt described in the Form I-9 Instructions to reverify employment authorization.

By July 5, 2018, your employer must complete Section 3 of the current version of the form, Form I-9 07/17/17 N, and attach it to the previously completed Form I-9, if your original Form I-9 was a previous version. Your employer can check the USCIS's I-9 Central web page at https://www.uscis.gov/i-9-central for the most current version of Form I-9.

Note that your employer may not specify which List A or List C document you must present and cannot reject an acceptable receipt.

Can my employer require that I provide any other documentation to prove my status, such as proof of my Nicaraguan citizenship?

No. When completing Form I-9, including reverifying employment authorization, employers must accept any documentation that appears on the Form I-9 Lists of Acceptable Documents that reasonably appears to be genuine and that relates to you, or an acceptable List A, List B, or List C receipt. Employers need not reverify List B identity documents. Employers may not request documentation that does not appear on the “Lists of Acceptable Documents.” Therefore, employers may not request proof of Nicaraguan citizenship or proof of re-registration for TPS when completing Form I-9 for new hires or reverifying the employment authorization of current employees. If presented with EADs that have been automatically extended, employers should accept such EADs as valid List A documents so long as the EADs reasonably appear to be genuine and to relate to the employee. In addition, if the EAD with a January 5, 2018 expiration date in category A-12 or C-19 is presented with the Form I-797C, an employer should accept this document combination as a valid List A document so long as the EAD reasonably appears to be genuine and relates to the employee. Refer to the Note to Employees section of this Notice for important information about your rights if your employer rejects lawful documentation, requires additional documentation, or otherwise discriminates against you based on your citizenship or immigration status, or your national origin.

How do my employer and I complete Employment Eligibility Verification (Form I-9) using my automatically extended EAD for a new job using this Federal Register notice?

To complete Form I-9 for a new job using an automatically extended EAD with a January 5, 2018 expiration date and A-19 or C-12 under Category, you and your employer should do the following if using an EAD that has been automatically extended for 60 days by this Federal Register notice:

1. For Section 1, you should:

a. Check “An alien authorized to work until” and enter March 6, 2018 (the date that is 60 days after January 5, 2018) as the “expiration date, if applicable, mm/dd/yyyy” and;

b. Enter your Alien Number/USCIS number or A-Number where indicated (your EAD or other document from DHS will have your USCIS Number or A-Number printed on it; the USCIS number is the same as your A-Number without the A prefix).

2. For Section 2, employers should:

a. Determine if the EAD is auto-extended for 60 days by ensuring it is in category A-12 or C-19 and has a January 5, 2018 expiration date;

b. Write in the document title;

c. Enter the issuing authority;

d. Provide the document number; and

e. Insert March 6, 2018, the date that is 60 days from the date the current EAD expires.

Before the start of work on March 7, 2018, your employer will need to examine evidence that you continue to have employment authorization. If you properly filed an EAD application, see instructions below under “What corrections should my current employer and I make to Employment Eligibility Verification (Form I-9) if my EAD has been automatically extended?

How do my employer and I complete Employment Eligibility Verification (Form I-9) using my automatically extended EAD for a new job using Form I-797C Notice of Action?

You may also complete Form I-9 for a new job using an EAD with a January 5, 2018 expiration date that has been automatically extended because you properly filed for a new EAD in accordance with this Notice. As proof of your employment authorization, you may present your EAD with expiration date January 5, 2018 with category A-12 or C-19 in combination with the Form I-797C showing that the EAD renewal application was filed and that the qualifying eligibility category is either A-12 or C-19. Unless your TPS has been finally withdrawn or your request for TPS has been finally denied, this document combination is considered an unexpired EAD (Form I-766) under List A. When completing Form I-9 for a new job you are starting before July 4, 2018, you and your employer should do the following:

1. For Section 1, you should:

a. Check “An alien authorized to work until” and enter July 4, 2018, the date that is 180 days from the date your current EAD expires as the “expiration date, if applicable, mm/dd/yyyy”; and

b. Enter your Alien Number/USCIS number or A-Number where indicated (your EAD or other document from DHS will have your USCIS Number or A-Number printed on it; the USCIS number is the same as your A-Number without the A prefix).

2. When completing Section 2, employers should:

a. Determine if the EAD is auto-extended for 180 days by ensuring:

• It is in category A-12 or C-19; and

• The category code on the EAD is the same category code on Form I-797C, noting that employers should consider category codes A-12 and C-19 to be the same category code.

b. Write in the document title;

c. Enter the issuing authority;

d. Provide the document number; and

e. Insert July 4, 2018, the date that is 180 days from the date the current EAD expires.

Before the start of work on July 5, 2018, employers must reverify the employee's employment authorization in Section 3 of Form I-9.

What corrections should my current employer and I make to Employment Eligibility Verification (Form I-9) if my EAD has been automatically extended by this Federal Register notice?

If you presented a TPS-related EAD that was valid when you first started your job and your EAD has now been automatically extended by this Notice, your employer may need to reinspect your automatically extended EAD if your employer does not have a copy of the EAD on file, and you and your employer should correct your previously completed Form I-9 as follows:

1. For Section 1, you may:

a. Draw a line through the expiration date in the first space;

b. Write March 6, 2018 above the previous date; and

c. Initial and date the correction in the margin of Section 1.

2. For Section 2, employers should:

a. Determine if the EAD is auto-extended for 60 days by ensuring that it is in category A-12 or C-19; and

b. Draw a line through the expiration date written in Section 2;

c. Write March 6, 2018, the date that is 60 days from the employee's current EAD expiration date above the previous date; and

d. Initial and date the correction in the Additional Information field in Section 2.

Note: This is not considered a reverification.

What corrections should my current employer and I make to Employment Eligibility Verification (Form I-9) if my EAD has been automatically extended by Form I-797C?

If you presented a TPS-related EAD that was valid when you first started your job and your EAD has now been automatically extended because you properly applied for an EAD, you may present your EAD with January 5, 2018 expiration date with category A-12 or C-19 in combination with the Form I-797C. The Form I-797C should show that the EAD renewal application was timely filed and that the qualifying eligibility category is either A-12 or C-19. To avoid confusion, you may also provide your employer a copy of this Notice. Your employer may need to re-inspect your current EAD if they do not have a copy of the EAD on file. You and your employer should correct your previously completed Form I-9 as follows:

1. For Section 1, you may

a. Draw a line through the expiration date in Section 1;

b. Write July 4, 2018, the date that is 180 days from the date your current EAD expires above the previous date; and

c. Initial and date the correction in the margin of Section 1.

2. For Section 2, employers should:

a. Determine if the EAD is auto-extended for 180 days by ensuring:

• It is in category A-12 or C-19; and

• The category code on the EAD is the same category code on Form I-797C, noting that employers should consider category codes A-12 and C-19 to be the same category code.

b. Draw a line through the expiration date written in Section 2;

c. Write July 4, 2018, the date that is 180 days from the date the employee's current EAD expires above the previous date; and

d. Initial and date the correction in the margin of Section 2.

Note: This is not considered a reverification. Employers do not need to complete Section 3 until either the 180-day extension has ended or the employee presents a new document to show continued employment authorization, whichever is sooner. By July 5, 2018, when the employee's automatically extended EAD has expired, employers must reverify the employee's employment authorization in Section 3.

If I am an employer enrolled in E-Verify, how do I verify a new employee whose EAD has been automatically extended?

Employers may create a case in E-Verify for a new employee whose EAD has been automatically extended for 60 days by this Notice. Employers may also create an E-Verify case for an employee whose EAD has been automatically extended by properly filing for a new EAD in accordance with this Notice using the Form I-797C receipt information provided on Form I-9. In either case, the number entered as the document number on Form I-9 should be entered into the document number field in E-Verify.

If I am an employer enrolled in E-Verify, what do I do when I receive a “Work Authorization Documents Expiration” alert for an automatically extended EAD?

E-Verify automated the verification process for employees whose TPS-related EAD was automatically extended. If you have employees who are TPS beneficiaries who provided a TPS-related EAD when they first started working for you, you will receive a “Work Authorization Documents Expiring” case alert when the auto-extension period for this EAD is about to expire. This indicates that you should update Form I-9 in accordance with the instructions above. Before the employee starts to work on July 5, 2018, employment authorization must be reverified in Section 3. Employers should not use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. Calls are accepted in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from Federal or state government records.

Employers may not terminate, suspend, delay training, withhold pay, lower pay, or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS website at http://www.dhs.gov/E-verify.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your current EAD;

(2) A copy of your Form I-797C for your application to renew your current EAD providing an automatic extension of your currently expired or expiring EAD;

(3) A copy of your Application for Temporary Protected Status Notice of Action (Form I-797) for this re-registration; and

(4) A copy of your past or current Application for Temporary Protected Status Notice of Action (Form I-797), if you received one from USCIS.

Check with the government agency regarding which document(s) the agency will accept. Some benefit-granting agencies use the USCIS Systematic Alien Verification for Entitlements (SAVE) program to confirm the current immigration status of applicants for public benefits. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2017-27141 Filed 12-14-17; 8:45 am]

BILLING CODE 9111-97-P